DEPARTMENT OF ENERGY

Federal Energy Regulatory Commission

[Docket No. CP02-67-000]

Transcontinental Gas Pipe Line Corporation; Notice of Request Under Blanket Authorization

January 23, 2002.

Take notice that on January 15, 2002, Transcontinental Gas Pipe Line Corporation (Transco), P.O. Box 1396, Houston, Texas 77251-1396, filed in Docket No. CP02-67-000 a request pursuant to sections 157.205 and 157.211 of the Commission's Regulations under the Natural Gas Act (18 CFR 157.205 and 157.211) for authorization to construct a delivery point for Sweetheart Cup Company, Inc. (Sweetheart), located in Baltimore County, Maryland, under Transco's blanket certificate issued in Docket No. CP82-426-000 pursuant to section 7 of the Natural Gas Act, all as more fully set forth in the request which is on file with the Commission and open to public inspection. This filing may be viewed on the Web at http://www.ferc.gov using the “RIMS” link, select “Docket #” from the RIMS Menu and follow the instructions (please call 202-208-2222 for assistance).

Transco proposes to construct, own, and operate a new delivery point for Sweetheart, a manufacturer of disposable food service products. Transco proposes to construct two 4-inch tap valve assemblies, a meter station with one 3-inch rotary meter, approximately 1,400 feet of 6-inch inlet piping to the meter station, outlet piping from the meter station, odorization, electronic flow measurement equipment, and other appurtenant facilities, located on Transco's mainline in Baltimore County, Maryland.

Transco states that the new delivery point will be used by Sweetheart to receive up to 8,976 dekatherms per day at 800 psig of gas from Transco on a firm, capacity release, or interruptible basis. Transco indicates that upon completion of the delivery point, Transco will commence transportation service to Sweetheart or its suppliers pursuant to Transco's Rate Schedules FT, FT-R, or IT and part 284(G) of the Commission's Regulations. Transco asserts that the addition of the delivery point will have no significant impact on Transco's peak day or annual deliveries, and is not prohibited by Transco's FERC Gas Tariff.

Transco states that the estimated cost of the proposed facilities is approximately $888,200. Transco indicates that Sweetheart will reimburse Transco for all costs associated with such facilities.

Any questions regarding the prior notice request should be directed to Paul Gredell, Transcontinental Gas Pipe Line Corporation, P.O. Box 1396, Houston, Texas 77251-1396, at (713) 215-2197.

Any person or the Commission's staff may, within 45 days after issuance of the instant notice by the Commission, file pursuant to Rule 214 of the Commission's Procedural Rules (18 CFR 385.214) a motion to intervene or notice of intervention and pursuant to section 157.205 of the Regulations under the Natural Gas Act (18 CFR 157.205), a protest to the request. If no protest is filed within the time allowed therefor, the proposed activity shall be deemed to be authorized effective the day after the time allowed for protest. If a protest is filed and not withdrawn within 30 days after the time allowed for filing a protest, the instant request shall be treated as an application for authorization pursuant to section 7 of the Natural Gas Act. Comments and protests may be filed electronically via the internet in lieu of paper. See, 18 CFR 385.2001(a)(1)(iii) and the instructions on the Commission's Web site under the “e-Filing” link.

Linwood A. Watson, Jr.,
Acting Secretary.

[FR Doc. 02-2094 Filed 1-28-02; 8:45 am]

BILLING CODE 6717-01-P